DEPARTMENT OF AGRICULTURE

Food Safety and Inspection Service

[Docket No. FSIS-2014-0011]

National Advisory Committee on Meat and Poultry Inspection; Nominations for Membership

AGENCY: Food Safety and Inspection Service, USDA.

ACTION: Notice soliciting nominations for membership—extension of time for submission.

SUMMARY: On May 15, 2014, the U.S. Department of Agriculture (USDA) published a notice soliciting nominations for membership on the National Advisory Committee on Meat and Poultry Inspection (NACMPI). Nominations were to have been submitted by June 16, 2014. That deadline is now reopened until July 23, 2014.

DATES: Nominations and required material (See How to Apply) are due July 23, 2014.

FOR FURTHER INFORMATION CONTACT: Ms. Jane Johnson, Program Specialist, Office of Outreach, Employee Education and Training, Food Safety and Inspection Service (FSIS); Telephone (202) 690-1277; Fax (202) 690-6519; Email jane.johnson@fsis.usda.gov.

SUPPLEMENTARY INFORMATION: On May 15, 2014, USDA published a notice in the Federal Register that solicited nominations for membership on NACMPI, a body consisting of not more than 20 members, each expected to serve a 2-year term (79 FR 27857). FSIS posted a copy of the notice on its Web site at: http://www.fsis.usda.gov/wps/wcm/connect/5fdcaf03-fb17-4614-bc26-b9992f33b602/2014-0011.pdf?MOD=AJPERES.

How To Apply

To receive consideration for service on the NACMPI, a nominee must submit a resume and USDA Advisory Committee Membership Background Information form AD-755. Self-nominations are welcome. The resume or curriculum vitae must be limited to five one-sided pages and should include nominee's educational background and expertise. For submissions received that are more than five one-sided pages in length, only the first five pages will be reviewed. USDA Advisory Committee Membership Background Information form AD-755 is available online at: http://fsis.usda.gov/forms/index.asp. Nomination packages should be accompanied by a resume and AD-755 form and can be sent by mail to: Thomas Vilsack, Secretary, U.S. Department of Agriculture, 1400 Independence Avenue SW., Washington, DC 20250, Attn: National Advisory Committee on Meat and Poultry Inspection.

Additional Public Notification

FSIS will announce this notice online through the FSIS Web page located at http://www.fsis.usda.gov/federal-register.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/subscribe. Customers can add or delete subscriptions themselves, and have the option to password protect their accounts.

USDA Nondiscrimination Statement

USDA prohibits discrimination in all its programs and activities on the basis of race, color, national origin, gender, religion, age, disability, political beliefs, sexual orientation, and marital or family status. (Not all prohibited bases apply to all programs.) Persons with disabilities who require alternative means for communication of program information (Braille, large print, or audiotape) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Done at Washington, DC on: July 2, 2014.
Alfred V. Almanza,
Administrator.

[FR Doc. 2014-15909 Filed 7-7-14; 8:45 am]

BILLING CODE 3410-DM-P